ENVIRONMENTAL PROTECTION AGENCY

[FRL-8881-01-ORD]

Request for Nominations of Experts for the Review of EPA's Draft Toxicological Reviews of Perfluorodecanoic Acid (PFDA), Perfluorononanoic Acid (PFNA), Perfluorohexanoic Acid (PFHxA), Perfluorohexanesulfonic acid (PFHxS), and Perfluorobutanoic acid (PFBA)

AGENCY: Environmental Protection Agency (EPA).

ACTION: Notice; request for nominations.

SUMMARY: The Environmental Protection Agency (EPA) Center for Public Health and Environmental Assessment (CPHEA) requests public nominations of scientific experts for the upcoming peer reviews of five Integrated Risk Information System (IRIS) assessments including: Perfluorodecanoic acid (PFDA; CASRN 335-76-2), perfluorononanoic acid (PFNA; CASRN 375-24-4), perfluorohexanoic acid (PFHxA, CASRN 307-24-4), perfluorohexanesulfonic acid (PFHxS, CASRN 355-46-4), and perfluorobutanoic acid (PFBA, CASRN 375-22-4), and their related salts which are all members of the group per- and polyfluoroalkyl substances (PFAS). Each assessment will undergo independent external scientific peer review managed by Eastern Research Group, Inc. (ERG), a contractor to EPA. A single peer review panel will review all five (5) PFAS IRIS assessments. Interested stakeholders will be provided 30-days to submit nominations for expert reviewers to ERG for their consideration.

DATES: The 30-day public comment period to provide nominations begins August 23, 2021 and ends September 22, 2021. Comments must be received on or before September 22, 2021.

ADDRESSES: Submit nominations by emailing them to peerreview@erg.com (subject line: EPA PFAS assessments peer review) at ERG no later than September 22, 2021. Please be advised that public comments are subject to release under the Freedom of Information Act, including communications on these nominations.

FOR FURTHER INFORMATION CONTACT: For general information please contact: Vicki Soto, CPHEA; email: soto.vicki@epa.gov.

For questions about the peer review, including the nomination process, please contact: Laurie Waite, ERG, by email at peerreview@erg.com (subject line: EPA PFAS assessments peer review); or by phone: (781) 674-7362.

SUPPLEMENTARY INFORMATION:

I. Background

Information on IRIS PFAS Assessments

Per- and polyfluoroalkyl substances (PFAS) are a large class of man-made chemicals widely used in consumer products and industrial processes. The basic structure of PFAS consists of a carbon chain surrounded by fluorine atoms, with different chemicals possessing different end groups. The five IRIS toxicity assessments are being developed according to the scope and methods outlined in the publicly posted systematic review protocol (https://cfpub.epa.gov/ncea/iris_drafts/recordisplay.cfm?deid=345065) and they build upon several other PFAS assessments that have already been developed, and represent only one component of the broader PFAS action plan underway at the U.S. EPA (https://www.epa.gov/pfas/epas-pfas-action-plan).

EPA is releasing the announcement to notify the public of upcoming peer review activities related to five IRIS five per- and polyfluoroalkyl substances (PFAS) Integrated Risk Information System (IRIS) assessments including: Perfluorodecanoic acid (PFDA; CASRN 335-76-2), perfluorononanoic acid (PFNA; CASRN 375-24-4), perfluorohexanoic acid (PFHxA, CASRN 307-24-4), perfluorohexanesulfonic acid (PFHxS, CASRN 355-46-4), and perfluorobutanoic acid (PFBA, CASRN 375 22 4), and their related salts which are all members of the group per- and polyfluoroalkyl substances (PFAS). These documents will undergo independent external scientific peer review managed by ERG, a contractor to EPA. EPA has instructed ERG to formulate a single pool of eighteen (18) candidate external reviewers to provide independent external reviews of all five PFAS IRIS assessments. After consideration of peer reviewer nominations submitted to ERG in response to this FRN and after consideration of public comments on the List of Candidates (to be announced in a future FRN), ERG will select from this pool the final list of up to nine (9) peer reviewers in a manner consistent with EPA's Peer Review Handbook 4th Edition, 2015 (EPA/100/B-15/001). EPA will provide updates on the status of the peer review via the IRIS website (https://www.epa.gov/iris). EPA encourages all interested stakeholders to register for the IRIS listserv by visiting the IRIS website at https://www.epa.gov/iris/forms/staying-connected-integrated-risk-information-system#connect. Specific questions or comments on the peer review process should be directed to ERG.

II. Information About This Peer Review

ERG is seeking nominations of nationally and internationally recognized scientists with demonstrated expertise and research on per- and polyfluoroalkyl substances (PFAS) in one or more of the following areas: Environmental epidemiology with experience in the application of systematic review principles to environmental exposures and/or immunotoxicity expertise; experimental toxicology with experience in the application of systematic review principles to environmental exposures and/or immunotoxicity expertise, hepatic effects, thyroid effects, developmental effects, biological mechanisms of human disease/health effects, and absorption, distribution, metabolism, and excretion (ADME) knowledge; and physiologically-based pharmacokinetic (PBPK) modeling, toxicokinetics, and dose-response modeling of animal data. Questions regarding this review should be directed to Laurie Waite, ERG, by email at peerreview@erg.com (subject line: EPA PFAS assessments peer review); or by phone: (781) 674-7362. For EPA, a balanced review panel includes candidates who possess the necessary domains of knowledge, the relevant scientific perspectives (which, among other factors, can be influenced by work history and affiliation), and the collective breadth of experience to adequately address the peer review charge. In forming this expert panel, ERG will consider public comments on the List of Candidates, information provided by the candidates themselves, and background information. Selection criteria to be used for panel membership include: (a) Scientific and/or technical expertise, knowledge, and experience (primary factors); (b) availability and willingness to serve; (c) absence of any potential organizational or personal conflicts of interest; (d) skills working in committees, subcommittees and advisory panels; and, (e) for the panel as a whole, diversity of expertise and scientific points of view.

Process and Deadline for Submitting Nominations: Any interested person or organization may nominate qualified individuals in the areas of expertise described above. Nominations should be submitted in electronic format to ERG via email: peerreview@erg.com (subject line: EPA PFAS assessments peer review). To receive full consideration, nominations should include all of the information requested below. ERG requests contact information about the person making the nomination; contact information about the nominee; the nominee's disciplinary and specific areas of expertise; the nominee's resume or curriculum vitae; sources of recent grant and/or contract support; and a biographical sketch of the nominee indicating current position, educational background, research activities, and recent service on other national advisory committees or national professional organizations. Persons having questions about the nomination procedures, or who are unable to submit nominations via email, should contact Laurie Waite, ERG, as noted above. ERG will acknowledge receipt of nominations. The names and biosketches of qualified nominees identified by respondents to this Federal Register Notice along with additional experts identified by ERG will be posted on the IRIS website and will be available for public comment. The process for public comment on the pool of nominees will be announced in a subsequent Federal Register Notice, on the IRIS website, and through the IRIS Listserv.

Timothy Watkins,
Acting Director, Center for Public Health & Environmental Assessment.

[FR Doc. 2021-18030 Filed 8-20-21; 8:45 am]

BILLING CODE 6560-50-P